DEPARTMENT OF LABOR

Agency Information Collection Activities; Submission for OMB Review; Comment Request, Partners for Reentry Opportunities in Workforce Development (PROWD) Evaluation, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Partners for Reentry Opportunities in Workforce Development (PROWD) Evaluation. A copy of the proposed Information Collection Request (ICR) can be obtained by contacting the office listed below in the addressee section of this notice.

DATES: Written comments must be submitted to the office listed in the addressee section below on or before February 18, 2025.

ADDRESSES: You may submit comments by either one of the following methods: Email: ChiefEvaluationOffice@dol.gov; Mail or Courier: Evan Murphy, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Evan Murphy by email at ChiefEvaluationOffice@dol.gov or by phone at (202) 693-0224.

SUPPLEMENTARY INFORMATION:

I. Background: The U.S. Department of Labor (DOL), in partnership with the Department of Justice (DOJ) Bureau of Prisons (BOP), awarded the Partners for Reentry Opportunities in Workforce Development (PROWD) grants to provide employment-related reentry services to people exiting the federal prison system. DOL's Chief Evaluation Office (CEO) has partnered with the Employee and Training Administration's Reentry Employment Opportunity (REO) Program to conduct an independent evaluation of the PROWD grants. This study will provide DOL, BOP, grantees, and other constituents with knowledge about the implementation and impact of grantees awarded PROWD grants in Fall 2023, including how grantees are preparing people exiting federal prisons to find and maintain good jobs after release. DOL CEO is working with an evaluation team led by Mathematica and their partners RTI International and Abt Global. This Federal Register Notice provides the opportunity to comment on proposed data collection instruments that will be used in the impact evaluation:

1. Impact study participant baseline survey. This 15-minute survey will be administered by PROWD grantee staff to up to 3,000 individuals enrolling in services at two stages in service delivery: in the BOP prisons and residential reentry centers (RRCs), for a total of up to 6,000 responses (2,000 responses a year annualized across three years). The survey will ask about basic demographic information and personal identifiers needed for record linking, employment history, and criminal justice history, and if completing the survey at the RRC, what PROWD or other employment services they received in the BOP correctional institution.

II. Desired Focus of Comments: Currently, the Department of Labor is soliciting comments concerning the above data collection for the Partners for Reentry Opportunities in Workforce Development (PROWD) Evaluation. DOL is particularly interested in comments that do the following:

○ evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, the Department of Labor is requesting clearance for the impact study participant baseline survey.

Type of Review: New information collection request.

OMB Control Number: 1290-0NEW.

Affected Public: Individuals or households.

Comments submitted in response to this request will be summarized and/or included in the request for Office of Management and Budget approval of the information collection request; they will also become a matter of public record.

Estimated Annual Burden Hours
Type of instrument (form/activity) | Number of respondents | Number of responses per respondent | Total number of responses | Average burden time per response (hours) | Estimated burden hours
Impact study participant baseline survey | ¹ 1,000 | 2 | 2,000 | .25 | 500
Total | 1,000 |  | 2,000 |  | 500
¹ Assumes approximately 3,000 program participants will complete the baseline survey up to two times over the three-year clearance period.

Alix Gould-Werth,
Chief Evaluation Officer, U.S. Department of Labor.

[FR Doc. 2024-30205 Filed 12-18-24; 8:45 am]

BILLING CODE 4510-HX-P